DEPARTMENT OF ENERGY

Energy Information Administration

Agency Information Collection Extension

AGENCY: U.S. Energy Information Administration (EIA), Department of Energy (DOE).

ACTION: Information collection extension with change, comment request.

SUMMARY: The EIA, pursuant to the Paperwork Reduction Act of 1995, intends to extend for three years with the Office of Management and Budget (OMB) the Coal Markets Reporting System. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments must be filed by October 28, 2013. If you anticipate that you will be submitting comments, but find it difficult to do so within the period of time allowed by this notice, please advise the EIA-3 Survey Manager at EIA of your intention to make a submission as soon as possible.

ADDRESSES: Written comments should be sent to: Attn: Tejasvi Raghuveer, EIA-3 Survey Manager, U.S. Energy Information Administration, EI-24, 1000 Independence Avenue SW., Washington, DC 20585.

To ensure receipt of the comments by the due date, submission by email (tejasvi.raghuveer@eia.gov) is recommended. Alternatively, Ms. Raghuveer may be contacted by telephone at 202-586-8926.

FOR FURTHER INFORMATION CONTACT: Requests for additional information or copies of any forms and instructions should be directed to Ms. Tejasvi Raghuveer at the contact information listed above. The proposed forms and instructions are available on the Internet at: http://www.eia.gov/survey/#coal.

SUPPLEMENTARY INFORMATION:

This information collection request contains: (1) OMB No. 1905-0167; (2) Information Collection Request Title: Coal Markets Reporting System. The survey forms included in this system are: EIA-3 “Quarterly Coal Consumption and Quality Report, Manufacturing and Transformation/Processing Coal Plants and Commercial and Institutional Coal Users; ”EIA-6Q ” Quarterly Coal Report (Standby);” EIA-7A “Coal Production and Preparation Report;” EIA-8A “Coal Stocks Report;” EIA-20 “Weekly Coal Monitoring Report, Coal Burning Utilities and Independent Power Producers (Standby);” (3) Type of Request: Three-year extension with changes; (4) Purpose: The Federal Energy Administration Act of 1974 (15 U.S.C. 761 et seq.) and the DOE Organization Act (42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands and to promote sound policymaking, efficient markets, and public understanding of energy and its interaction with the economy and the environment.

EIA surveys are conducted to collect coal market data. The data elements include production, consumption, receipts, stocks, and prices. Information pertaining to the quality of the coal is also collected. Aggregates of this collection are used to support public policy analyses of the coal industry, economic modeling, forecasting, coal supply and demand studies, and in guiding research and development programs. EIA publications, including the Monthly Energy Review, Quarterly Coal Report, Quarterly Coal Distribution Report, Annual Coal Report, and Annual Coal Distribution Report, each contain data collected through the coal production and consumption surveys listed above. The EIA uses the data in short-term and long-term models such as the Short-Term Integrated Forecasting System (STIFS) and the National Energy Modeling System (NEMS) Coal Market Module. The forecast data also appear in the Short-Term Energy Outlook and the Annual Energy Outlook publications.

(4a) Proposed Changes: The EIA proposes to make changes to Forms EIA-3, EIA-6Q, EIA-7A, EIA-8A, and EIA-20. The EIA proposes to discontinue standby Forms EIA-1 and EIA-4. Together, these two standby forms were intended to collect data from non-electric sector respondents in the event of a coal supply disruption. To date, these forms have never been deployed. Also, the possibility of such a disruption to non-electric sector respondents seems minimal. In addition, coal and coke data collected on Form EIA-5 in Schedules II, III, and IV will now be collected on Form EIA-3. Hence, the EIA proposes to discontinue the Form EIA-5. Detailed descriptions of proposed changes to individual forms follow.

Form EIA-3: Quarterly Coal Consumption and Quality Report, Manufacturing and Transformation/Processing Coal Plants and Commercial and Institutional Coal Users

• Change the title of the survey to “Quarterly Survey of Non-Electric Sector Coal Data”

• Modify the scope of the survey, as defined under the purpose section, to include coke plants

• Remove Secure File Transfer from Communication Method

• Re-categorize mail as an Unsecured Communication Method

• Change Site County to Site City

• Request EIA-923 ID in the Company Contact Information Section

• Create “Part 5: Coking Plants Only” to accommodate respondents of discontinued Form EIA-5 and collect data regarding coke production. Disclosure limitation procedures will continue to be applied to all cost and revenue data reported in Part V.

• No longer collect Synfuel data

• Minor revisions to instructions and definitions

Form EIA-7A: Coal Production and Preparation Report

• Change title of survey to “Annual Survey of Coal Production and Preparation”

• Modify questions, response options, and instructions to provide respondents with more detail and to improve navigation

• Update Unsecured Communication Method(s) to include email, fax, and mail

• Create a field for adjustment to coal stocks to account for stocks held on- and off-site at the end of the reporting year

• Add new fields for metallurgical and non-metallurgical coal under sections on Open and Captive Market Sales to gather more accurate revenue data from each type of sale. Disclosure limitation procedures will be applied to protect the data elements from being attributed to any specific company.

EIA proposes adding the following questions to Form EIA-7A:

• Did the company that owns the mining operation cease operations during the reporting year? This question will be used to help maintain the EIA-7A frame and review data discrepancies as reported by respondents that answered “yes” to the question.

• Report the county, state, and mining dates of the surface mining activity. The Mine Safety and Health Administration assigns this location every quarter. Adding this question would track production by county more accurately.

• What is the average heat content for all coal mined at this mine during the reporting year? EIA's State Energy Data System publishes heat content of coal produced by state. Currently, this production heat content data is estimated by EIA staff using coal-quality data collected, in relation to coal receipts, at end-use sectors as a proxy. This question would provide the actual production-based quality data needed to replace the estimation.

• For any Captive Market Sales or transfer of coal to the parent company or a subsidiary of the parent company, what are their contact name, company name, email address, and telephone number? This question helps verify the accuracy of captive market sales vs. open market sales data. This will also allow for improved frame maintenance on the EIA-8A, which covers coal traders, brokers, and terminals.

• For any Export Coal Sales to coal brokers, coal traders, or coal terminals, what are their contact name, company name, email address, and telephone number? This question will be used to run a cross-survey comparison with the EIA-8A in hopes of eliminating double-counting of export coal sales and improving export-related data.

Form EIA-8A: Coal Stocks Report

• Change title of survey to “Annual Survey of Coal Stocks and Coal Exports”

• Simplify questions, response options, and instructions to provide respondents with more detail and to improve navigation

• Update Secure Communication Method to include the Internet Data Collections (IDC) System

• Modify Unsecured Communication Method(s) to include email, fax, and mail

• Require additional contact information when a company is sold or merges during the reporting year

• Amend the Required Respondents section of the survey to require respondents to report coal exported since prior reporting year

• Revise list of locations where U.S. originated stocks are held to include “OT—Other”

• Add new fields for metallurgical and non-metallurgical coal to various sections of the survey to gather more accurate revenue data about the metallurgical coal market

EIA proposes adding the following questions to Form EIA-8A:

• Did the company for which you are reporting export coal that originated in the United States during the reporting year? This is a screening question that will help ensure an accurate accounting of all coal brokers that also act as exporters.

• What was the operational status of your company during the reporting year? This question will be used to help maintain the EIA-8A frame and review data discrepancies as reported by respondents that answered “yes” to the question.

Standby Forms EIA-6Q: Quarterly Coal Report (Standby) and EIA-20: Weekly Coal Monitoring Report, Coal Burning Utilities and Independent Power Producers (Standby)

• Change standby form titles to Form EIA-6: “Emergency Coal Supply Survey” and Form EIA-20: “Emergency Weekly Coal Monitoring Survey for Coal Burning Power Producers.”

• Make minor revisions to instructions and definitions

Eliminating Form EIA-5: Quarterly Coal Consumption and Quality Report—Coke Plants

Eliminating Form EIA-5 and the proposed changes to Form EIA-3 will result in the absorption of all 19 EIA-5 respondents into the EIA-3 frame, reduce quarterly maintenance of two separate internet data collection systems with nearly identical layouts and edits, and create a single survey for all non-electric sector coal users.

Eliminating Standby Forms EIA-1: Weekly Coal Monitoring Report—General Industries and Blast Furnaces and EIA-4: Weekly Coal Monitoring Report—Coke Plants

Standby Forms EIA-1 and EIA-4 were intended to collect data from non-electric sector respondents in the event of a coal supply disruption. To date, these forms have never been deployed. Also, the possibility of such a disruption to non-electric sector respondents seems minimal. Eliminating these two survey forms would be optimal.

(5) Estimated Number of Survey Respondents:

• Form EIA-3 will consist of 508 respondents; the increase from the current 489 respondents is because of the additional 19 EIA-5 respondents that will begin reporting on Form EIA-3.

• EIA-7A will consist of 1,208 respondents.

• EIA-8A will consist of 86 respondents.

(6) Annual Estimated Number of Total Responses: 3326.

• Form EIA-3, 2,032 responses.

• EIA-7A, 1,208 respondents.

• EIA-8A, 86 respondents.

(7) Annual Estimated Number of Burden Hours: Total annual burden hours for all three surveys: 3834.

(8) Annual Estimated Reporting and Recordkeeping Cost Burden: EIA estimates that there are no additional costs to respondents associated with the surveys other than the costs associated with the burden hours.

Statutory Authority: Section 13(b) of the Federal Energy Administration Act of 1974, Pub. L. 93-275, codified at 15 U.S.C. 772(b), and the DOE Organization Act of 1977, Pub. L. 95-91, codified at 42 U.S.C. 7101 et seq.

Issued in Washington, DC, on August 22, 2013.
Stephanie Brown,
Director, Office of Survey Development and Statistical Integration, U.S. Energy Information Administration.

[FR Doc. 2013-20978 Filed 8-27-13; 8:45 am]

BILLING CODE 6450-01-P